DEPARTMENT OF DEFENSE

Office of the Secretary

[Docket ID: DOD-2017-OS-0057]

Notice of Availability of an Environmental Assessment Addressing Defense Logistics Agency Construction and Operation of a Disposition Services Complex at DLA Disposition Services Red River, Texas

AGENCY: Defense Logistics Agency (DLA), Department of Defense (DoD).

ACTION: Notice of availability (NOA).

SUMMARY: DLA announces the availability of an Environmental Assessment (EA) documenting the potential environmental effects associated with the Proposed Action to construct and operate a DLA Disposition Services Complex at DLA Disposition Services Red River, Texas, which is on the Red River Army Depot. The EA has been prepared as required under the National Environmental Policy Act (NEPA).

DATES: The public comment period will end on November 20, 2017.

ADDRESSES: You may submit comments, identified by DOD-2017-OS-0057, to one of the following:

• Federal eRulemaking Portal: http://www.regulations.gov. Follow the instructions for submitting comments.

• Mail: Department of Defense, Office of the Deputy Chief Management Officer, Directorate for Oversight and Compliance, Regulatory and Advisory Committee Division, 4800 Mark Center Drive, Mailbox #24, Suite 08D09B, Alexandria, VA 22350-1700.

FOR FURTHER INFORMATION CONTACT: Ira Silverberg at 703-767-0705 during normal business hours Monday through Friday, from 8:00 a.m. to 4:30 p.m. (EDT) or by email: ira.silverberg@dla.mil.

SUPPLEMENTARY INFORMATION: The EA complies with 32 Code of Federal Regulations part 651, Environmental Analysis of Army Actions (AR 200-2), and DLA's regulation for NEPA compliance, DLA Regulation 1000.22, Environmental Considerations in DoD Actions. However, because DLA is a tenant on Red River Army Depot, a U.S. Army-supported installation, this EA is subject to compliance with U.S. Army implementing regulations for NEPA. DLA has determined that the Proposed Action would not have a significant impact on the human environment within the context of NEPA. Therefore, the preparation of an environmental impact statement is not required.

Comments received by the end of the 30-day period will be considered when preparing the final version of the documents. The EA is available electronically at the Federal eRulemaking Portal at http://www.regulations.gov, and in hardcopy at the County Clerk's Office at the Bowie County Courthouse, 710 James Bowie Drive, New Boston, TX 75570.

Dated: October 16, 2017.
Aaron Siegel,
Alternate OSD Federal Register Liaison Officer, Department of Defense.

[FR Doc. 2017-22668 Filed 10-18-17; 8:45 am]

BILLING CODE 5001-06-P